POSTAL SERVICE

Privacy Act of 1974; System of Records

AGENCY: Postal Service™.

ACTION: Notice of modification to existing systems of records.

SUMMARY: The United States Postal Service® (Postal Service) is proposing to modify two Customer Privacy Act Systems of Records (SOR). These changes are being made to support the automatic and seamless update of National Change of Address (NCOA) information, voluntarily provided by customers, in related customer databases that require the same NCOA information.

DATES: These revisions will become effective without further notice on August 1, 2016 unless comments received on or before that date result in a contrary determination.

ADDRESSES: Comments may be mailed or delivered to the Privacy and Records Office, United States Postal Service, 475 L'Enfant Plaza SW., Room 1P830, Washington, DC 20260-0004. Copies of all written comments will be available at this address for public inspection and photocopying between 8 a.m. and 4 p.m., Monday through Friday.

FOR FURTHER INFORMATION CONTACT: Janine Castorina, Chief Privacy Officer/A, Privacy and Records Office, 202-268-3089 or privacy@usps.gov.

SUPPLEMENTARY INFORMATION: This notice is in accordance with the Privacy Act requirement that agencies publish their systems of records in the Federal Register when there is a revision, change, or addition, or when the agency establishes a new system of records. The Postal Service™ has determined that two Customer Privacy Act Systems of Records should be revised to modify the purpose(s).

I. Background

The Postal Service currently collects and stores information provided voluntarily by customers for the purpose of updating their address when they move from one location to another. Customers update their address through change-of-address, mail forwarding, or other related services. The USPS has determined that the provided information is needed to automatically update other related customer databases, including Customer Registration, that are presently separated from the NCOA database. The customer's new address information is needed in these separate databases so that requested products and services will continue to be received at their new address. These customer-based systems need to be integrated to meet customer needs and expectations, and to provide a positive customer experience. Current technological capabilities will be used to provide current and consistent capabilities across the systems to maintain the public's trust and to safeguard individual privacy.

II. Rationale for Changes to USPS Privacy Act Systems of Records

Privacy Act System of Records 800.000, Address Change, Mail Forwarding, and Related Services and 810.100, www.usps.com Registration are being modified to permit the Postal Service to use change-of-address data to support the update of customer profile information in Customer Registration, and other customer related systems. These modifications are needed to facilitate the accurate and reliable delivery and fulfillment of requested postal products, services, and materials to the customer's new address. Also, in an effort to increase the number of completed change-of-address requests, the Postal Service is proposing to add an additional purpose to SOR 800.000, which would allow communication between USPS customers and the Postal Service for the purpose of sending a reminder to customers who have started the change-of-address process online, but abandon the process before completion.

Also, due to organizational changes, the Postal Service is adding a System Manager and Address to SOR 800.000.

III. Description of Changes to Systems of Records

Pursuant to 5 U.S.C. 552a(e)(11), interested persons are invited to submit written data, views, or arguments on this proposal. A report of the proposed modifications has been sent to Congress and to the Office of Management and Budget for their evaluations. The Postal Service does not expect these amended systems of records to have any adverse effect on individual privacy rights. The affected systems are as follows:

USPS 800.000

SYSTEM NAME:

Address Change, Mail Forwarding, and Related Services

* * * * *

PURPOSES:

[CHANGE TO READ]

* * * * *

6. To provide automatic updates to USPS customer systems using mail forwarding and change-of-address services.

7. To facilitate communication between USPS customers and the Postal Service with regard to change-of-address and address correction services.

* * * * *

SYSTEM MANAGER(S) AND ADDRESS:

[CHANGE TO READ]

* * * * *

Vice President, Retail and Customer Service Operations, United States Postal Service, 475 L'Enfant Plaza SW., Washington, DC 20260.

* * * * *

USPS 810.100

SYSTEM NAME:

www.usps.com Registration

* * * * *

PURPOSES:

[CHANGE TO READ]

* * * * *

3. To maintain current and up-to-date address information to assure accurate and reliable delivery and fulfillment of postal products, services, and other material.

Stanley F. Mires,
Attorney, Federal Compliance.

[FR Doc. 2016-15461 Filed 6-29-16; 8:45 am]

BILLING CODE 7710-12-P